OFFICE OF SPECIAL COUNSEL

Agency Information Collection; Request for Public Comment

AGENCY: U.S. Office of Special Counsel (OSC).

ACTION: Notice of request for public comment and submission for OMB review of proposed collection of information.

SUMMARY: The U.S. Office of Special Counsel (OSC) has submitted a request to the Office of Management and Budget (OMB) for review and approval of an extension of a currently approved information collection used to file complaints and disclosures with OSC (Form OSC-14/dynamic electronic form). In accordance with the Paperwork Reduction Act of 1995, OSC is providing the public with an additional opportunity to comment on this proposed information collection prior to OMB approval.

OMB first approved OSC's dynamic electronic filing form on September 18, 2017. OSC revised the previously approved form in July 2019 to reflect interim statutory changes and obtained emergency OMB/OIRA processing for that collection. A final rule authorizing use of Form OSC-14 took effect on August 26, 2019, and OMB approval on February 3, 2020, authorized use of the revised form through March 2023. The collection was subsequently re-approved through February 28, 2026. OSC now seeks to extend approval of this collection through 2029. No substantive changes to the form or collection methodology are proposed with this extension.

DATES: Written comments must be received on or before February 23, 2026.

ADDRESSES: Submit written comments to: Rhoan Jones, U.S. Office of Special Counsel, at (202) 804-7000 or via email at frliaison@osc.gov.

SUPPLEMENTARY INFORMATION:

Title of Collection: Filing of Complaints and Disclosures with OSC.

OMB Control Number: 3255-0005.

Type of Review: Reinstatement without change of a previously approved collection.

Respondents: Individuals (or their representatives) who have sought assistance from OSC.

Estimated Number of Respondents: 6,000 annually. (Note: While some individuals may submit more than one filing in a year, OSC estimates total annual responses at approximately 6,000.)

Estimated Time per Response: 90 minutes (1.5 hours).

Total Estimated Annual Burden: 9,000 hours.

Obligation to Respond: Voluntary.

Estimated Total Annual Respondent Cost and Non-Hour Costs: $0 (electronic submission; no capital, start-up, operation, or maintenance costs to respondents).

Abstract/Needs and Uses: The collection enables individuals to submit disclosures of wrongdoing (5 U.S.C. 1213) and PPP complaints (5 U.S.C. 1214) through a secure, dynamic electronic form consistent with the Government Paperwork Elimination Act. The electronic format improves data quality, supports complete records, reduces resubmissions, and facilitates efficient and fair processing. This request seeks an extension of the current approval through 2029 with no substantive changes.

Request for Comments: Pursuant to 44 U.S.C. 3506(c)(2)(A) and 5 CFR 1320.8(d), OSC specifically solicits comments on:

1. Whether the proposed collection of information is necessary for the proper performance of OSC's functions, including whether the information will have practical utility;

2. The accuracy of OSC's estimate of the burden of the proposed collection, including the validity of the methodology and assumptions used;

3. Ways to enhance the quality, utility, and clarity of the information to be collected; and

4. Ways to minimize the burden of the collection on respondents, including through the use of automated collection techniques or other forms of information technology.

All comments received will be posted without change, to the extent a docket is used, and will be included in the public record.

Dated: January 20, 2026.
Barbara Jones,
Chief, Case Review Division, U.S. Office of Special Counsel.

[FR Doc. 2026-01142 Filed 1-21-26; 8:45 am]

BILLING CODE P